DEPARTMENT OF ENERGY

Federal Energy Regulatory Commission

[Docket No. RM93-11-000]

Revisions to Oil Pipeline Regulations, Pursuant to the Energy Policy Act of 1992; Notice of Annual Change in the Producer Price Index for Finished Goods

The Commission's regulations include a methodology for oil pipelines to change their rates through use of an index system that establishes ceiling levels for such rates. The Commission bases the index system, found at 18 CFR 342.3, on the annual change in the Producer Price Index for Finished Goods (PPI-FG), plus one point two three percent (PPI-FG + 1.23). The Commission determined in an Order Establishing Index Level,¹ issued December 17, 2015, that PPI-FG + 1.23 is the appropriate oil pricing index factor for pipelines to use for the five-year period commencing July 1, 2016.

¹ 153 FERC 61,312, at P 52 (2015).

The regulations provide that the Commission will publish annually an index figure reflecting the final change in the PPI-FG after the Bureau of Labor Statistics publishes the final PPI-FG in May of each calendar year. The annual average PPI-FG index figures were 204.1 for 2018 and 205.7 for 2019.² Thus, the percent change (expressed as a decimal) in the annual average PPI-FG from 2018 to 2019, plus 1.23 percent, is positive 0.020139.³ Oil pipelines must multiply their July 1, 2019, through June 30, 2020, index ceiling levels by positive 1.020139 ⁴ to compute their index ceiling levels for July 1, 2020, through June 30, 2021, in accordance with 18 CFR 342.3(d). For guidance in calculating the ceiling levels for each 12-month period beginning January 1, l995,⁵ see Explorer Pipeline Company, 71 FERC 61,416, at n.6 (1995).

² Bureau of Labor Statistics (BLS) publishes the final figure in mid-May of each year. This figure is publicly available from the Division of Industrial Prices and Price Indexes of the BLS, at 202-691-7705, and in print in August in Table 1 of the annual data supplement to the BLS publication Producer Price Indexes via the internet at http://www.bls.gov/ppi/home.htm. To obtain the BLS data, scroll down to PPI Databases and click on Top Picks of the Commodity Data including headline FD-ID indexes (Producer Price Index—PPI). At the next screen, under the heading PPI Commodity Data, select the box, Finished goods—WPUFD49207, then scroll to the bottom of this screen and click on Retrieve data.

³ [205.7-204.1]/204.1 = .007839 + 0.0123 = +0.020139.

⁴ 1 + 0.020139 = 1.020139.

⁵ For a listing of all prior multipliers issued by the Commission, see the Commission's website, http://www.ferc.gov/industries/oil/gen-info/pipeline-index.asp.

In addition to publishing the full text of this Notice in the Federal Register, the Commission provides all interested persons an opportunity to view and/or print this Notice via the internet through FERC's Home Page (http://www.ferc.gov) using the eLibrary link. To access this document in eLibrary, type the docket number excluding the last three digits of this document in the docket number field and follow other directions on the search page. At this time, the Commission has suspended access to the Commission's Public Reference Room due to the proclamation declaring a National Emergency concerning the Novel Coronavirus Disease (COVID-19) issued by the President on March 13, 2020.

User assistance is available for eLibrary and other aspects of FERC's website during normal business hours. For assistance, please contact the Commission's Online Support at 1-866-208-3676 (toll free) or 202-502-6652 (email at FERCOnlineSupport@ferc.gov), or the Public Reference Room at 202-502-8371, TTY 202-502-8659. E-Mail the Public Reference Room at public.referenceroom@ferc.gov.

Dated: May 15, 2020.
Nathaniel J. Davis, Sr.,
Deputy Secretary.

[FR Doc. 2020-10968 Filed 5-20-20; 8:45 am]

BILLING CODE 6717-01-P